SMALL BUSINESS ADMINISTRATION

Audit and Financial Management Advisory (AFMAC) Committee Meeting

Pursuant to the Federal Advisory Committee Act, Appendix 2 of Title 5, United States Code, Public Law 92-463, notice is hereby given that the U.S. Small Business Administration, Audit and Financial Management Advisory AFMAC (Committee) will host a public meeting on Tuesday, November 6, 2007 at 1 p.m. The meeting will take place at the U.S. Small Business Administration, 409 3rd Street, SW., Office of the Chief Financial Officer Conference Room, 6th Floor, Washington, DC 20416. The purpose of the meeting is to discuss the SBA's FY 2007 Financial Statements, FY 2007 Financial and Information Systems Audits, Credit Subsidy Modeling, FMFIA Assurance and A-123 Internal Control Program Results, FY 2007 Financial Report, FY 2007 Agency Performance Report and Information Systems Controls. The AFMAC was established by the Administrator of the SBA to provide recommendation and advice regarding the Agency's financial management, including the financial reporting process, systems of internal controls, audit process and process for monitoring compliance with relevant laws and regulations.

Anyone wishing to attend must contact Jennifer Main in writing or by fax. Jennifer Main, Chief Financial Officer, 409 3rd Street, SW., 6th Floor, Washington, DC 20416, phone: (202) 205-6449, fax: (202) 205-6969, e-mail: Jennifer.Main@sba.gov.

Matthew Teague,
Committee Management Officer.

[FR Doc. E7-21043 Filed 10-24-07; 8:45 am]

BILLING CODE 8025-01-P